FEDERAL COMMUNICATIONS COMMISSION

47 CFR Parts 0, 2, 11, 15, 18, 73, 74, 76, 78, 80, 90, 95, and 97

[FCC 15-81]

Reorganization of the Enforcement Bureau's Field Operations

AGENCY: Federal Communications Commission.

ACTION: Final rule.

SUMMARY: The Federal Communications Commission (the Commission) acts to improve the Commission's efficiency, effectively manage Commission resources, and align the Commission's field enforcement activities with contemporary needs for a field enforcement presence. The Commission, the Office of Managing Director and the Enforcement Bureau will take several actions to realign the mission and resources of its 24 field offices. The Bureau's field offices will primarily support the enforcement of the Commission's radio frequency spectrum rules and other key regulations in a manner likely to have the greatest impact, in the most cost effective way possible.

DATES: Effective September 8, 2015.

FOR FURTHER INFORMATION CONTACT: William Davenport, Enforcement Bureau, (202) 418-1034.

SUPPLEMENTARY INFORMATION: This is a summary of the Commission's Order; FCC 15-81, adopted and released on July 16, 2015. The full text of this document is available for public inspection during regular business hours in the FCC Reference Center, Room CY-A257, 445 12th Street SW., Washington, DC 20554 or at the following Internet address: https://www.fcc.gov/document/fcc-adopts-plan-modernize-field-operations-0. Alternative formats are available to persons with disabilities (braille, large print, electronic files, audio format); to obtain, please send an email to fcc504@fcc.gov or call the Consumer and Governmental Affairs Bureau at (202) 418-0530 (voice), (202) 418-0432 (TTY).

I. Introduction

1. Through this Order, we act to improve the Commission's efficiency, effectively manage Commission resources, and align the Commission's field enforcement activities with contemporary needs for a field enforcement presence. With its 24 field offices (“Field”) and Equipment Development Group, the Enforcement Bureau resolves interference issues, assists with disaster recovery, and enforces technical compliance with Commission rules and the Communications Act. The current model of the Field was adopted approximately 20 years ago.¹ Since then, technological changes and increasingly limited resources have created the need to take a fresh look at the Bureau's Field operations. The Commission has completed a full review of the mission, processes, and organization of the Field. Our review concludes that our Field resources should be concentrated in urban areas where the need for them is greatest. This Order refocuses the Field on enforcement of our radio frequency spectrum rules and other key regulations in a high impact and cost effective manner that is better aligned with the priorities of the Commission and the Bureau as a whole.

¹ Amendment of Part 0 of the Commission's Rules to Reflect Reorganization of the Compliance and Information Bureau, Order, 11 FCC Rcd 1725 (1996).

II. Discussion

2. The Commission has determined to make changes to the Field in order to create a more effective organization within the limits of our budgetary constraints. By this action we restructure the Enforcement Bureau's field operations to implement the changes. The Field reorganization will better align the Field's mission with the priorities of the Commission, increase efficiency in terms of both employee performance and management oversight, and enable updating the employee skillset and equipment deployed in the Field. We take this action after extensive outreach to internal and external stakeholders, including a survey of field personnel and interviews with field staff, current and former management, outside experts, regulatees, and other government agencies. We also reviewed field operations by other federal agencies and examined the Bureau's enforcement activity database to assess the Field's caseload, efficiency, and effectiveness.

3. Based on that comprehensive review, the Commission, the Office of Managing Director and the Enforcement Bureau will take several actions to realign the mission and resources of the Field. The Bureau's field offices will primarily support the enforcement of the Commission's radiofrequency interference requirements and other key rules. These enforcement efforts will be guided by the priorities of the Commission and the Enforcement Bureau and occur in the manner likely to have the greatest impact, in the most cost effective way possible.

4. The Field will embark on a program to update its equipment and employee skillset to address the likely issues that will accompany new and expanded uses of spectrum. This program will include the expanded use of remotely operated monitoring equipment to supplement field staff, as well as the identification and use of portable devices capable of assessing interference issues in bands expected to experience heavy spectrum use. Upon completion of all required implementation steps, the Commission will first apply the net savings resulting from this reorganization effort to this program, before applying those monies to the agency's general fund. The net savings will not be used to increase the number of full-time non-field-related employees in the headquarters office of the Enforcement Bureau.

5. The Bureau will close its field offices in or near Anchorage, Alaska; Buffalo, New York; Detroit, Michigan; Houston, Texas; Kansas City, Missouri; Norfolk, Virginia; Philadelphia, Pennsylvania; San Diego, California; San Juan, Puerto Rico; Seattle, Washington; and Tampa, Florida. Relatedly, the Enforcement Bureau field offices in or near Atlanta, Georgia; Columbia, Maryland; and San Francisco, California will relocate to FCC-owned properties nearby or in the same metropolitan areas. In addition, recognizing that current work volume does not require full-time employees, the Bureau will contract with local personnel to maintain a field presence in Alaska and Puerto Rico and will also periodically dispatch field agents to Kansas City, Missouri.

6. All Bureau field agents shall have electrical engineering backgrounds.

7. The relocated offices identified in paragraph 5 and the remaining offices in or near New York City, New York; Miami, Florida; Dallas, Texas; Chicago, Illinois; Boston, Massachusetts; Denver, Colorado; Honolulu, Hawaii; New Orleans, Louisiana; Portland, Oregon; and Los Angeles, California will be staffed and equipped to maintain the Commission's Field program.

8. Within 6 weeks of release of this Order, the Bureau will establish procedures for industry and public safety complainants to escalate their complaints within the Field organization.

9. The Commission will continue to work with outside stakeholders to develop a comprehensive policy and enforcement approach to the issue of unlicensed radio broadcasting.

10. The Commission will implement a nationwide outplacement effort to assist all displaced employees to find positions in the public or private sectors, including other vacancies within the Commission for which they are qualified and selected.

11. The amendments adopted herein pertain to agency organization, procedure, and practice. Some of the amendments are administrative updates to rules that were inadvertently not revised during prior agency organization efforts.² Other amendments add references to the FCC Web site where parties and the Commission may obtain information more efficiently than they could by the current practice of addressing requests to the Field. The remainder of the amendments conform the rules to the current practice. Consequently, the requirement of notice and comment and the effective date provisions of the Administrative Procedures Act, 5 U.S.C. 553(b) and (d), do not apply. Authority for the amendments adopted herein is contained in Sections 4(f)(1), 4(g), 4(i), 5(b), 5(c)(1) and 303(r) of the Communications Act of 1934, as amended, 47 U.S.C. 154(f)(1), (g), (i), 155(b), 155(c)(1), and 303(r).

² See e.g., Establishment of the Enforcement Bureau and the Consumer Information Bureau, Order, 14 FCC Rcd 17924 (1999); Establishment of the Public Safety and Homeland Security Bureau and Other Organizational Changes, Order, 21 FCC Rcd 10867 (2006); Amendment of the Commission's Rule Concerning Commercial Radio Operators, Report and Order, 28 FCC Rcd 532, 542-43, para. 20 (2013).

III. Procedural Matters

A. Paperwork Reduction Act of 1995

This document does not contain new or modified information collection requirements subject to the Paperwork Reduction Act of 1995 (PRA), Public Law 104-13.

B. Congressional Review Act

The Commission will not send a copy of this Order pursuant to the Congressional Review Act, 5 U.S.C. 801(a)(1)(A), because the adopted rules pertain to agency organization, procedure, and practice.

IV. Ordering Clauses

12. Accordingly, It is ordered that, pursuant to Sections 4(f)(1), 4(g), 4(i), 5(b), 5(c)(1) and 303(r) of the Communications Act of 1934, as amended, 47 U.S.C. 154(f)(1), (g), (i), 155(b), 155(c)(1), and 303(r) the Enforcement Bureau's Field operations be restructured.

13. It is further ordered that the field offices in or near Anchorage, Alaska; Buffalo, New York; Detroit, Michigan; Houston, Texas; Kansas City, Missouri; Norfolk, Virginia; Philadelphia, Pennsylvania; San Diego, California; San Juan, Puerto Rico; Seattle, Washington; and Tampa, Florida be closed. The Bureau will contract with local personnel to maintain a field presence in Alaska and Puerto Rico and will also periodically dispatch field agents to Kansas City, Missouri.

14. It is further ordered that the Enforcement Bureau relocate field offices in or near Atlanta, Georgia; Columbia, Maryland; and San Francisco, California to nearby FCC-owned properties.

15. It is further ordered that all Enforcement Bureau field agents shall have electrical engineering backgrounds.

16. It is further ordered that the Commission devote resources to provide its field staff with the training and equipment to address new interference threats in bands that are currently in use, as well as bands that are not yet widely utilized. The equipment should focus on portable, cost-effective devices as well as remotely-operated spectrum monitoring equipment deployable on a permanent or temporary basis. Upon completion of all required implementation steps, the Commission will first apply the net savings resulting from this reorganization effort to this program, before applying those monies to the agency's general fund. The net savings will not be used to increase the number of full time non-field-related employees in the headquarters office of the Enforcement Bureau.

17. It is further ordered that, within 6 weeks of release of this Order, the Enforcement Bureau will establish procedures for industry and public safety complainants to escalate their complaints within the Field organization.

18. It is further ordered that the Commission will continue to work with outside stakeholders to develop a comprehensive policy and enforcement approach to the issue of unlicensed radio broadcasting.

19. It is further ordered that the Commission implement a nationwide outplacement effort to assist all displaced employees to find positions in the public or private sectors, including other vacancies within the Commission for which they are qualified and selected.

20. It is further ordered that effective upon publication of this Order in the Federal Register that Sections 0.111, 0.314, 0.317, 0.401, 0.421, 0.555, 2.106, 2.405, 11.35, 15.239, 18.115, 18.117, 73.688, 73.1030, 73.1690, 74.24, 74.25, 76.613, 78.11, 78.19, 80.59, 80.1067, 90.425, 95.129, 95.208, 95.209, 95.408, 95.409, 97.13, 97.109, 97.203, 97.309, 97.311, and 97.313 of the Commission's rules are amended as indicated in the Appendix.

List of Subjects

47 CFR Part 0

Organization and functions (Government agencies), Reporting and recordkeeping requirements.

47 CFR Part 2

Disaster assistance, Radio.

47 CFR Part 11

Radio.

47 CFR Part 15

Communications equipment, Reporting and recordkeeping requirements.

47 CFR Part 18

Medical devices, Reporting and recordkeeping requirements, Scientific equipment.

47 CFR Part 73

Communications equipment, Radio, and Reporting and recordkeeping requirements.

47 CFR Part 74

Radio, Reporting and recordkeeping requirements, and Television.

47 CFR Parts 76 and 78

Cable television, Reporting and recordkeeping requirements.

47 CFR Part 80

Vessels, Marine safety, and Reporting and recordkeeping requirements.

47 CFR Parts 90, 95, and 97

Communications equipment, Radio.

Federal Communications Commission.
Gloria J. Miles,
Federal Register Liaison Officer.

Final Rules

For the reasons discussed in the preamble, the Federal Communications Commission amends 47 CFR parts 0, 2, 11, 15, 18, 73, 74, 76, 78, 80, 90, 95, and 97 as follows:

PART 0—COMMISSION ORGANIZATION

1. The authority citation for part 0 continues to read as follows:

Authority: Sec. 5, 48 Stat. 1068, as amended; 47 U.S.C. 155, 225, unless otherwise noted.

2. Section 0.111 is amended by revising Notes to Paragraphs (a)(1), (a)(2) and (a)(11) to read as follows:

§ 0.111 Functions of the Bureau.

* * * * *

Note To Paragraph (a)(1): The Consumer and Governmental Affairs Bureau has primary responsibility for addressing individual informal complaints from consumers against common carriers (wireline, wireless and international) and against other wireless licensees, and informal consumer complaints involving access to telecommunications services and equipment for persons with disabilities. The International Bureau has primary responsibility for complaints regarding international settlements rules and policies.

* * * * *

Note to paragraph (a)(2): The Consumer and Governmental Affairs Bureau has primary responsibility for addressing individual informal complaints from consumers against non-common carriers subject to the Commission's jurisdiction under Title II of the Communications Act and related provisions.

* * * * *

Note to paragraph (a)(11): The Media Bureau has primary responsibility for complaints regarding children's television programming requirements, and for political and related programming matters and equal employment opportunity matters involving broadcasters, cable operators and other multichannel video programming distributors. The relevant licensing Bureau has primary responsibility for complaints involving tower sitting and the Commission's environmental rules. The Media Bureau has primary responsibility for complaints regarding compliance with conditions imposed on transfers of control and assignments of licenses of Cable Television Relay Service authorizations.

* * * * *

3. Section 0.314 is amended by revising the introductory text to read as follows:

§ 0.314 Additional authority delegated.

The Regional Directors are delegated authority to act upon applications, requests, or other matters, which are not in hearing status, and direct the following activities necessary to conduct investigations or inspections:

* * * * *

4. Section 0.317 is revised to read as follows:

§ 0.317 Record of action taken.

The application, authorization, and other appropriate files of the Enforcement Bureau are designated as the Commission's official records of action taken pursuant to authority delegated under §§ 0.311 and 0.314, and shall constitute the official Commission minutes entry of such actions. The official records of action are maintained in the Reference Information Center in the Consumer and Governmental Affairs Bureau.

5. Section 0.401 is amended by revising paragraph (a)(4) to read as follows:

§ 0.401 Location of Commission offices.

* * * * *

(a) * * *

(4) For the locations of the field offices, contact the Enforcement Bureau.

* * * * *

6. Section 0.421 is revised to read as follows:

§ 0.421 Application forms.

All forms for use in submitting applications for radio authorization, together with instructions and information as to filing such forms, may be obtained at http://www.fcc.gov/forms. For information concerning the forms to be used and filing requirements, see part 1 of this chapter and the appropriate substantive rules.

7. Section 0.555 is amended by removing paragraph (a)(2), redesignating paragraph (a)(3) as paragraph (a)(2), and revising newly redesignated paragraph (a)(2) to read as follows:

§ 0.555 Disclosure of record information to individuals.

(a) * * *

(2) Individuals may request that copies of records be sent directly to them. In such cases, individuals must verify their identity as described in § 0.554(b)(2) and provide an accurate return mailing address or email address. Records shall be sent only to that address.

* * * * *

PART 2—FREQUENCY ALLOCATIONS AND RADIO TREATY MATTERS; GENERAL RULES AND REGULATIONS

8. The authority citation for part 2 continues to read as follows:

Authority: 47 U.S.C. 154, 302a, 303, and 336, unless otherwise noted.

9. Section 2.106 is amended by revising paragraph (a) introductory text following US270 as follows:

§ 2.106 Table of Frequency Allocations.

* * * * *

US270 * * *

(a) The peak envelope power of an amateur station shall not exceed 50 watts in the following areas, unless expressly authorized by the FCC after mutual agreement, on a case-by-case basis, between the Regional Director of the applicable field office and the military area frequency coordinator at the applicable military base. For areas (5) through (7), the appropriate military coordinator is located at Peterson AFB, CO.

* * * * *

10. Section 2.405 is amended by revising paragraphs (a) and (c) to read as follows:

§ 2.405 Operation during emergency.

* * * * *

(a) That as soon as possible after the beginning of such emergency use, notice be sent to the Public Safety and Homeland Security Bureau of the Commission at Washington, D.C., stating the nature of the emergency and the use to which the station is being put, and

* * * * *

(c) That the Public Safety and Homeland Security Bureau of the Commission at Washington, D.C., shall be notified immediately when such special use of the station is terminated: Provided further,

* * * * *

PART 11—EMERGENCY ALERT SYSTEM (EAS)

11. The authority citation for part 11 continues to read as follows:

Authority: 47 U.S.C. 151, 154(i) and (o), 303(r), 544(g) and 606.

12. Section 11.35 is amended by revising paragraph (c) to read as follows:

§ 11.35 Equipment operational readiness.

* * * * *

(c) If repair or replacement of defective equipment is not completed within 60 days, an informal request shall be submitted to the Regional Director of the FCC field office serving the area in which the EAS Participant is located, or in the case of DBS and SDARS providers to the Regional Director of the FCC field office serving the area where their headquarters is located, for additional time to repair the defective equipment. This request must explain what steps have been taken to repair or replace the defective equipment, the alternative procedures being used while the defective equipment is out of service, and when the defective equipment will be repaired or replaced.

PART 15—RADIO FREQUENCY DEVICES

13. The authority citation for part 15 continues to read as follows:

Authority: 47 U.S.C. 154, 302a, 303, 304, 307, 336, 544a, and 549.

14. Section 15.239 is amended by revising paragraph (d) introductory text to read as follows:

§ 15.239 Operation in the band 88-108 MHz.

* * * * *

(d) A custom built telemetry intentional radiator operating in the frequency band 88-108 MHz and used for experimentation by an educational institute need not be certified provided the device complies with the standards in this part and the educational institution notifies the Office of Engineering and Technology, in writing, in advance of operation, providing the following information:

* * * * *

PART 18—INDUSTRIAL, SCIENTIFIC, AND MEDICAL EQUIPMENT

15. The authority citation for part 18 continues to read as follows:

Authority: 47 U.S.C. 4, 301, 302, 303, 304, 307.

16. Section 18.115 is amended by revising paragraphs (b) and (c) to read as follows:

§ 18.115 Elimination and investigation of harmful interference.

* * * * *

(b) If the operator of ISM equipment is notified by the Commission's Regional Director that operation of such equipment is endangering the functioning of a radionavigation or safety service, the operator shall immediately cease operating the equipment. Operation may be resumed on a temporary basis only for the purpose of eliminating the harmful interference. Operation may be resumed on a regular basis only after the harmful interference has been eliminated and approval from the Regional Director obtained.

(c) When notified by the Regional Director that a particular installation is causing harmful interference, the operator or manufacturer shall arrange for an engineer skilled in techniques of interference measurement and control to make an investigation to ensure that the harmful interference has been eliminated. The Regional Director may require the engineer making the investigation to furnish proof of his or her qualifications.

17. Revise § 18.117 to read as follows:

§ 18.117 Report of interference investigation.

(a) An interim report on investigations and corrective measures taken pursuant to § 18.115 of this part shall be filed with the Regional Director of the local FCC office within 30 days of notification of harmful interference. The final report shall be filed with the Regional Director within 60 days of notification.

(b) The date for filing the final report may be extended by the Regional Director when additional time is required to put into effect the corrective measures or to complete the investigation. The request for extension of time shall be accompanied by a progress report showing what has been accomplished to date.

PART 73—RADIO BROADCAST SERVICES

18. The authority citation for part 73 continues to read as follows:

Authority: 47 U.S.C. 154, 303, 334, 336, and 339.

19. Section 73.688 is amended by revising paragraph (c)(2) to read as follows:

§ 73.688 Indicating instruments.

* * * * *

(c) * * *

(2) If conditions beyond the control of the licensee prevent the restoration of the meter to service within the above allowed period, informal request in accordance with § 73.3549 may be filed for such additional time as may be required to complete repairs of the defective instrument.

20. Section 73.1030 is amended by revising paragraph (c)(2) to read as follows:

§ 73.1030 Notifications concerning interference to radio astronomy, research and receiving installations.

* * * * *

(c) * * *

(2) In the event that calculated value of expected field exceeds 10 mV/m (−65.8 dBW/m2) at the reference coordinates, or if there is any question whether field strength levels might exceed the threshold value, advance consultation with the FCC to discuss any protection necessary should be considered. Prospective applicants may communicate with the Public Safety and Homeland Security Bureau.

* * * * *

21. Section 73.1690 is amended by revising paragraph (c)(7)(ii) to read as follows:

§ 73.1690 Modification of transmission systems.

* * * * *

(c) * * *

(7) * * *

(ii) If the station is located in or near a radio quiet zone, radio coordination zone, or a Commission monitoring station (see § 73.1030 and § 0.121(c) of this chapter), the licensee or permittee must have secured written concurrence from the affected radio quiet zone, radio coordination zone, or the Commission's Public Safety and Homeland Security Bureau in the case of a monitoring station, to increase effective radiated power PRIOR to implementation. A copy of that concurrence must be submitted with the license application to document that concurrence has been received;

* * * * *

PART 74—EXPERIMENTAL RADIO, AUXILIARY, SPECIAL BROADCAST AND OTHER PROGRAM DISTRIBUTIONAL SERVICES

22. The authority citation for part 74 continues to read as follows:

Authority: 47 U.S.C. 154, 302a, 303, 307, 309, 336 and 554.

23. Section 74.24 is amended by revising paragraph (i) to read as follows:

§ 74.24 Short-term operation.

* * * * *

(i) Short-term operation of a remote pickup broadcast base station, a remote pickup automatic relay station, an aural broadcast STL station, an aural broadcast intercity relay station, a TV STL station, a TV intercity relay station or a TV translator relay station in the National Radio Quiet Zone, the Table Mountain Radio Receiving Zone, or near FCC monitoring stations is subject to the same advance notification procedures applicable to regular applications as provided for in § 73.1030 of this chapter and § 74.12, except that inasmuch as short-term operation does not involve an application process, the provisions relating to agency objection procedures shall not apply. It shall simply be necessary for the licensee to contact the potentially affected agency and obtain advance approval for the proposed short-term operation. Where protection to FCC monitoring stations is concerned, approval for short-term operation may be given by the Regional Director of a Commission field facility.

* * * * *

24. Section 74.25 is amended by revising paragraph (d) to read as follows:

§ 74.25 Temporary conditional operating authority.

* * * * *

(d) Operation under this section shall be suspended immediately upon notification from the Commission or by the Regional Director of a Commission field facility, and shall not be resumed until specific authority is given by the Commission or Regional Director. When authorized by the Regional Director, short test operations may be made.

* * * * *

PART 76—MULTICHANNEL VIDEO AND CABLE TELEVISION SERVICE

25. The authority citation for part 76 continues to read as follows:

Authority: 47 U.S.C. 151, 152, 153, 154, 301, 302, 302a, 303, 303a, 307, 308, 309, 312, 315, 317, 325, 338, 339, 340, 341, 503, 521, 522, 531, 532, 534, 535, 536, 537, 543, 544, 544a, 545, 548, 549, 552, 554, 556, 558, 560, 561, 571, 572, 573.

26. Section 76.613 is amended by revising paragraphs (c) and (d) to read as follows:

§ 76.613 Interference from a multichannel video programming distributor (MVPD).

* * * * *

(c) If harmful interference to radio communications involving the safety of life and protection of property cannot be promptly eliminated by the application of suitable techniques, operation of the offending MVPD or appropriate elements thereof shall immediately be suspended upon notification by the Regional Director for the Commission's local field office, and shall not be resumed until the interference has been eliminated to the satisfaction of the Regional Director. When authorized by the Regional Director, short test operations may be made during the period of suspended operation to check the efficacy of remedial measures.

(d) The MVPD may be required by the Regional Director to prepare and submit a report regarding the cause(s) of the interference, corrective measures planned or taken, and the efficacy of the remedial measures.

PART 78—CABLE TELEVISION RELAY SERVICE

27. The authority citation for part 78 continues to read as follows:

Authority: Secs. 2, 3, 4, 301, 303, 307, 308, 309, 48 Stat., as amended, 1064, 1065, 1066, 1081, 1082, 1083, 1084, 1085; 47 U.S.C. 152, 153, 154, 301, 303, 307, 308, 309.

28. Section 78.11 is amended by revising paragraph (e) to read as follows:

§ 78.11 Permissible service.

* * * * *

(e) The license of a CARS pickup station authorizes the transmission of program material, and related communications necessary to the accomplishment of such transmission, from the scenes of events occurring in places other than a cable television studio or the studio of another eligible system, to the studio, headend, or transmitter of its associated cable television system or other eligible system, or to such other cable television or other eligible systems as are carrying the same program material. CARS pickup stations may be used to provide temporary CARS studio-to-headend links, studio-to-transmitter links, or CARS circuits consistent with this part without further authority of the Commission: Provided, however, That prior Commission authority shall be obtained if the transmitting antenna to be installed will increase the height of any natural formation or manmade structure by more than 6.1 meters (20 feet) and will be in existence for a period of more than 2 consecutive days: And provided, further, That if the transmitting equipment is to be operated for more than 1 day outside of the area to which the CARS station has been licensed, the Commission, the Regional Director for the area in which the station is licensed to operate, and the Regional Director for the area in which the equipment will be temporarily operated shall be notified at least 1 day prior to such operation. If the decision to continue operation for more than 1 day is not made until the operation has begun, notice shall be given to the Commission and the relevant Regional Directors within 1 day after such decision. In all instances, the Commission and the relevant Regional Directors shall be notified when the transmitting equipment has been returned to its licensed area.

* * * * *

29. Section 78.19 is amended is amended by revising paragraph (e)(2) to read as follows:

§ 78.19 Interference.

* * * * *

(e) * * *

(2) In the event that calculated value of expected field exceeds 10 mV/m (−65.8 dBW/m2) at the reference coordinates, or if there is any question whether field strength levels might exceed the threshold value, advance consultation with the FCC to discuss any protection necessary should be considered. Prospective applicants may communicate with the Public Safety and Homeland Security Bureau, Federal Communications Commission, Washington, DC 20554.

* * * * *

PART 80—STATIONS IN THE MARITIME SERVICES

30. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

31. Section 80.59 is amended by revising paragraph (d)(1) introductory text to read as follows:

§ 80.59 Compulsory ship inspections.

* * * * *

(d) Waiver of annual inspection. (1) The Commission may, upon a finding that the public interest would be served, grant a waiver of the annual inspection required by Section 362(b) of the Communications Act, 47 U.S.C. 360(b), for a period of not more than 90 days for the sole purpose of enabling a United States vessel to complete its voyage and proceed to a port in the United States where an inspection can be held. An informal application must be submitted by the ship's owner, operator or authorized agent. The application must be submitted to the Commission's Wireless Telecommunications Bureau at least three days before the ship's arrival. The application must include:

* * * * *

32. Section 80.1067 is amended by revising paragraph (a) to read as follows:

§ 80.1067 Inspection of station.

(a) Ships must have the required equipment inspected at least once every 12 months by an FCC-licensed technician holding a GMDSS Radio Maintainer's License. If the ship passes the inspection the technician will issue a Safety Certificate. Safety Certificates may be obtained from the Commission's National Call Center at 1-888-CALL FCC (1-888-225-5322). The effective date of the ship Safety Certificate is the date the station is found to be in compliance or not later than one business day later. The FCC-licensed technician must use the latest FCC Information Bulletin, How to Conduct a GMDSS Inspection, which may be obtained at http://www.fcc.gov.

* * * * *

PART 90—PRIVATE LAND MOBILE RADIO SERVICES

33. The authority citation for part 90 continues to read as follows:

Authority: Sections 4(i), 11, 303(g), 303(r), and 332(c)(7) of the Communications Act of 1934, as amended, 47 U.S.C. 154(i), 161, 303(g), 303(r), and 332(c)(7), and Title VI of the Middle Class Tax Relief and Job Creation Act of 2012, Pub. L. 112-96, 126 Stat. 156.

34. Section 90.425 is amended by revising paragraph (a)(4)(ii) to read as follows:

§ 90.425 Station identification.

* * * * *

(a) * * *

(4) * * *

(ii) In the Industrial/Business Pool, licensees may request the Commission's Wireless Telecommunications Bureau to approve the use of special mobile unit identifiers in lieu of the assigned call sign. Such requests, however, will not be granted where it appears that harmful interference to international operations may be caused by stations below 50 MHz, or by stations operating in areas within 80 km (50 miles) of an international boundary, or where it appears that the proposed method of identification will not adequately distinguish the mobile units of the applicant from the mobile units of other licensees in the area.

* * * * *

PART 95—PERSONAL RADIO SERVICES

35. The authority citation for part 95 continues to read as follows:

Authority: 47 U.S.C. 154, 301, 302(a), 303, and 307(e).

36. Revise § 95.129 to read as follows:

§ 95.129 Station equipment.

Every station in a GMRS system must use transmitters the FCC has certificated for use in the GMRS. Transmitters that have been certified for use in the GMRS may be found on the FCC Web site at https://apps.fcc.gov/oetcf/eas/reports/GenericSearch.cfm. All station equipment in a GMRS system must comply with the technical rules in part 95.

37. Section 95.208 is amended by revising paragraph (d) to read as follows:

§ 95.208 (R/C Rule 8) How high may I put my antenna?

* * * * *

(d) If your R/C station is located near an airport, and if you antenna structure is more than 6.1 meters (20 feet) high, your may have to obey additional restrictions. The highest point of your antenna must not exceed one meter above the airport elevation for every hundred meters of distance from the nearest point of the nearest airport runway. Differences in ground elevation between your antenna and the airport runway may complicate this formula. If your R/C station is near an airport, see http://wireless2.fcc.gov/UlsApp/AsrSearch/towairSearch.jsp to help you figure the maximum allowable height of your antenna. Consult part 17 of this chapter for more information.

* * * * *

38. Section 95.209 is amended by revising paragraph (b) to read as follows:

§ 95.209 (R/C Rule 9) What equipment may I use at my R/C station?

* * * * *

(b) You may examine a list of certificated transmitters on the FCC Web site at http://www.fcc.gov/encyclopedia/radio-control-rc-radio-service.

* * * * *

39. Section 95.408 is amended by revising paragraph (d) to read as follows:

§ 95.408 (CB Rule 8) How high may I put my antenna?

* * * * *

(d) If your CB station is located near an airport, and if your antenna structure is more than 6.1 meters (20 feet) high, you may have to obey additional restrictions. The highest point of your antenna must not exceed one meter above the airport elevation for every hundred meters of distance from the nearest point of the nearest airport runway. Differences in ground elevation between your antenna and the airport runway may complicate this formula. If your CB station is near an airport, see http://wireless2.fcc.gov/UlsApp/AsrSearch/towairSearch.jsp to help you figure the maximum allowable height of your antenna. Consult part 17 of this chapter for more information.

* * * * *

40. Section 95.409 is amended by revising paragraph (a) to read as follows:

§ 95.409 (CB Rule 9) What equipment may I use at my CB station?

(a) You must use an FCC certificated CB transmitter at your CB station. You can identify an FCC certificated transmitter by the certification label placed on it by the manufacturer. You may examine a list of certificated equipment on the FCC Web site at http://www.fcc.gov/encyclopedia/citizens-band-cb-service. Use of a transmitter which is not FCC certificated voids your authority to operate the station.

* * * * *

PART 97—AMATEUR RADIO SERVICE

41. The authority citation for part 97 continues to read as follows:

Authority: 48 Stat. 1066, 1082, as amended; 47 U.S.C. 154, 303. Interpret or apply 48 Stat. 1064-1068, 1081-1105, as amended; 47 U.S.C. 151-155, 301-609, unless otherwise noted.

42. Section 97.13 is amended by revising paragraph (b) to read as follows:

§ 97.13 Restrictions on station location.

* * * * *

(b) A station within 1600 m (1 mile) of an FCC monitoring facility must protect that facility from harmful interference. Failure to do so could result in imposition of operating restrictions upon the amateur station pursuant to § 97.121. Geographical coordinates of the facilities that require protection are listed in § 0.121(c) of this chapter.

* * * * *

43. Section 97.109 is amended by revising paragraph (d) to read as follows:

§ 97.109 Station control.

* * * * *

(d) When a station is being automatically controlled, the control operator need not be at the control point. Only stations specifically designated elsewhere in this part may be automatically controlled. Automatic control must cease upon notification by a Regional Director that the station is transmitting improperly or causing harmful interference to other stations. Automatic control must not be resumed without prior approval of the Regional Director.

44. Section 97.203 is amended by revising paragraph (f) to read as follows:

§ 97.203 Beacon station.

* * * * *

(f) A beacon must cease transmissions upon notification by a Regional Director that the station is operating improperly or causing undue interference to other operations. The beacon may not resume transmitting without prior approval of the Regional Director.

* * * * *

45. Section 97.309 is amended by revising paragraph (b) introductory text to read as follows:

§ 97.309 RTTY and data emission codes.

* * * * *

(b) Where authorized by §§ 97.305(c) and 97.307(f), a station may transmit a RTTY or data emission using an unspecified digital code, except to a station in a country with which the United States does not have an agreement permitting the code to be used. RTTY and data emissions using unspecified digital codes must not be transmitted for the purpose of obscuring the meaning of any communication. When deemed necessary by a Regional Director to assure compliance with the FCC Rules, a station must:

* * * * *

46. Section 97.311 is amended by revising paragraph (c) introductory text to read as follows:

§ 97.311 SS emission types.

* * * * *

(c) When deemed necessary by a Regional Director to assure compliance with this part, a station licensee must:

* * * * *

47. Section 97.313 is amended by revising paragraph (f) to read as follows:

§ 97.313 Transmitter power standards.

* * * * *

(f) No station may transmit with a transmitter power exceeding 50 W PEP on the UHF 70 cm band from an area specified in paragraph (a) of footnote US270 in § 2.106, unless expressly authorized by the FCC after mutual agreement, on a case-by-case basis, between the Regional Director of the applicable field facility and the military area frequency coordinator at the applicable military base. An Earth station or telecommand station, however, may transmit on the 435-438 MHz segment with a maximum of 611 W effective radiated power (1 kW equivalent isotropically radiated power) without the authorization otherwise required. The transmitting antenna elevation angle between the lower half-power (−3 dB relative to the peak or antenna bore sight) point and the horizon must always be greater than 10°.

* * * * *

[FR Doc. 2015-21963 Filed 9-4-15; 8:45 am]

BILLING CODE 6712-01-P